ENVIRONMENTAL PROTECTION AGENCY

[EPA-HQ-OPP-2009-1017; FRL-9370-4]

Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before January 4, 2013.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001. Submit written withdrawal request by mail to: Pesticide Re-evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: John W. Pates, Jr., Pesticide Re-evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in suf

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 43 pesticide products registered under FIFRA section 3 or 24(c). These registrations are listed in sequence by registration number (or company number and 24(c) number) in Table 1 of this unit.

Unless the Agency determines that there are substantive comments that warrant further review of the requests or the registrants withdraw their requests, EPA intends to issue orders in the Federal Register canceling all of the affected registrations.

Table 1—Registrations with Pending Requests for Cancellation
Registration No. | Product name | Chemical name
000100-00641 | Banner Fungicide | Propiconazole.
000100-00781 | Orbit 45W Fungicide | Propiconazole.
000352-00558 | DuPont Muster Herbicide | Ethametsulfuron.
000352-00559 | DuPont Ethametsulfuron Methyl Technical Herbicide | Ethametsulfuron.
000499-00518 | Prescription Treatment Brand 2% Propoxur Bait | Propoxur.
009404-00087 | Permethrin 0.25% Insecticide Granules | Permethrin.
009404-00088 | Sunniland Chinch Bug & Mole Cricket Spray | Permethrin.
010163-00298 | GWN-3772 Technical | Tribenuron-methyl.
010466-00024 | Ultrafresh 300 DD Nonionic | Triclosan/Tributyltin oxide (no inert use).
010466-00043 | T-Bate | Tributyltin oxide (no inert use).
010807-00146 | Weed-A-Cide Concentrate | Prometon.
010807-00206 | Misty Weed-A-Cide CF | Prometon.
010807-00444 | CB Fogger IV | Tetramethrin/Esfenvalerate.
010807-00451 | Bee, Wasp & Hornet Jet Stream | Phenothrin/Tetramethrin.
028293-00293 | Unicorn 30 Day Flea & Tick Treatment | Permethrin.
028293-00357 | Unicorn 45% Permethrin Fly & Tick Insecticide | Permethrin.
028293-00358 | Unicorn 45% Permethrin Flee & Tick Insecticide | Permethrin.
038167-00029 | Mach 2 1.5G | Benzoic acid,4-chloro-,2-benzoyl-2-(1,1-dimethylethyl) hydrazide.
061483-00058 | Pentacon-7 | Pentachlorophenol.
061483-00059 | Pentacon-10 | Pentachlorophenol.
062719-00351 | Dursban HF Insecticidal Concentrate | Chlorpyrifos.
062719-00352 | Dursban W Insecticidal Chemical | Chlorpyrifos.
062719-00364 | Dursban 20 MEC Microencapsulated Insecticidal Concentrate | Chlorpyrifos.
066222-00025 | Pramitol 1.5% Liquid Vegetation Killer | Prometon.
066222-00044 | Pramitol 1.8L | Prometon.
066222-00045 | Pramitol 2.2L | Prometon.
066222-00052 | Pramitol 1.8 RTU | Prometon.
066222-00118 | Bumper 41.8 EC Calif | Propiconazole.
066330-00037 | Chloropicrin | Chloropicrin.
066330-00047 | TM-442 | Chloropicrin.
066330-00228 | Malathion Technical | Malathion (no inert use).
066330-00248 | Malathion 8EC | Malathion (no inert use).
066330-00325 | Propiconazole 14.3% T&O | Propiconazole.
066330-00331 | Bifenthrin 13% MUP | Bifenthrin.
068451-00003 | Deltamethrin Technical Insecticide (micronized) | Deltamethrin.
068451-00004 | Deltamethrin Technical Insecticide | Deltamethrin.
073327-00011 | Green Light Conquest Indoor & Outdoor Pest Control | Permethrin.
073327-00012 | Green Light Conquest Insecticide Concentrate | Permethrin.
075829-00001 | H2Pro Maintenance Treatment | Silver.
081880-00020 | MON 12036 Herbicide | Halosulfuron-methyl.
088058-00002 | Chlorothalonil 720 Fungicide | Chlorothalonil.
CA900030 | Pest Strip | Amvac Small Insect Strip.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, 410 Swing Rd., P.O. Box 18300, Greensboro, NC 27419-8300.
352 | E.I. DuPont de Nemours and Company (S300/419), Manager, Registration & Regulatory Affairs, 1007 Market St., Wilmington, DE 19898-0001.
499 | Whitmire Micro-Gen Research Laboratories, Inc., Agent: BASF Corporation, 3568 Tree Court Industrial Blvd., St. Louis, MO 63122-6682.
9404 | Sunniland Corporation, P.O. Box 8001, Sanford, FL 32772-8001.
10163 | Gowan Company, P.O. Box 5569, Yuma, AZ 853668844.
10466 | Thomas Research Associates, Shenstone Estates, 17804 Braemar Plaza, Leesburg, VA 20176-7046.
10807 | Amreo, Inc., 990 Industrial Park Dr., Marietta, GA 30062.
28293 | Phaeton Corporation, P.O. Box 1019, Salem, VA 24153.
38167 | Helena Chemical Company, D/B/A Setre Chemical Company, 225 Schilling Blvd., Suite 300, Collierville, TN 38017.
61483 | KMG-Bernuth, Inc., 9555 W. Sam Houston Parkway South, Suite 600, Houston, TX 77099.
62719 | Dow Agrosciences, LLC, 9330 Zionsville Rd., 308/2E, Indianapolis, IN 46268-1054.
66222 | Makhteshim Agan of North America, Inc., 3120 Highwoods Blvd., Suite 100, Raleigh, NC 27604.
66330 | Arysta Lifescience North America, LLC, 15401 Weston Parkway, Suite 150, Cary, NC 27513.
68451 | Intervet, Inc., 556 Morris Avenue, S5-2145A, Summit, NJ 07901.
73327 | Swiss Farms Products, 3993 Howard Hughs Parkway, Suite 250, Las Vegas, NV 89109-6754.
75829 | Garrison Dental Solutions, 150 Dewitt Lane, Ispring Lake, MI 49456.
81880 | Canyon Group, LLC, C/O Gowan Company, 370 S. Main St., Yuma, AZ 85364.
88058 | Orion Ato, LLC, Agent: Source Dynamics, LLC, S122230 E. Del Norte, Yuma, AZ 85377-7355.
CA 900030 | California Dept. of Food and Agriculture, 1220 N. Street Room 221, Sacramento, CA 95814.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products (except for registration no. 066330-00037 and 066330-00047) for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

A. Registration No. 066330-00037

The continued sale and distribution of existing stocks of this product will be allowed through December 1, 2012. Additionally, the use of existing stocks of this product will be allowed until those existing stocks are exhausted.

B. Registration No. 066330-00047

The continued sale and distribution of existing stocks of this product will be allowed through December 1, 2012. Additionally, the use of existing stocks of this product will be allowed until those existing stocks are exhausted.

List of Subjects

Environmental protection, Pesticides and pests.

Dated: November 21, 2012.
Richard P. Keigwin, Jr.,
Director, Pesticide Re-evaluation Division, Office of Pesticide Programs.

[FR Doc. 2012-29384 Filed 12-4-12; 8:45 am]

BILLING CODE 6560-50-P